ENVIRONMENTAL PROTECTION AGENCY

[FRL-7669-8]

Proposed Settlement Agreement, Clean Air Act Citizen Suit

AGENCY: Environmental Protection Agency (EPA).

ACTION: Notice of proposed settlement agreement; request for public comment.

SUMMARY: In accordance with section 113(g) of the Clean Air Act, as amended (“Act”), 42 U.S.C. 7413(g), notice is hereby given of a proposed settlement agreement, to address a lawsuit filed by AISI/ACCCI Coke Oven Environmental Task Force (“COETF”): AISI/ACCCI Coke Oven Environmental Task Force v. U.S. Environmental Protection Agency, No. 03-1167 (DC Cir.). Petitioners challenged EPA's final rule entitled “National Emission Standards for Hazardous Air Pollutants for Coke Ovens: Pushing, Quenching, and Battery Stacks,” published at 68 FR 18008 (April 14, 2003), including emission limitations and work practice requirements for the control of hazardous air pollutants from pushing, quenching, soaking, and battery stacks at new and existing coke oven batteries. Under the terms of the proposed settlement agreement, 90 days after review of public comments received in response to this Notice, EPA will sign and submit for publication in the Federal Register a notice of proposed rulemaking to amend the Rule as set forth in Attachment A to this Agreement. Within 120 days after the close of the comment period on the proposal, EPA shall sign and submit for publication in the Federal Register a notice setting forth the Administrator's final decision on the issues covered by the proposal.

DATES: Written comments on the proposed settlement agreement must be received by July 6, 2004.

ADDRESSES: Submit your comments, identified by docket ID number OGC-2004-0004, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Steven Silverman, Air and Radiation Law Office (2344A), Office of General Counsel, U.S. Environmental Protection Agency, 1200 Pennsylvania Ave., NW., Washington, DC 20460. telephone: (202) 564-5523.

SUPPLEMENTARY INFORMATION:

I. Additional Information About the Proposed Settlement

Petitioners raise issues concerning: (a) The provisions requiring owners/operators of coke plants having a “pushing emission control device” (“PECD”) to install, operate and maintain devices to monitor daily average fan motor amps, (or volumetric flow rate at the inlet of the control device and maintain daily average volumetric flow rate) at or above minimum levels established during initial performance tests (40 CFR 63.7290, 63.7323(c), 63.7326(a)(4), 63.73330(d), 63.7331(g) and (h)); and (b) the provisions requiring monthly inspections of pressure senors, dampers, damper switches and other equipment important to the performance of the total emissions capture system and requiring that a facility's operation and maintenance plan include requirements to repair any defect or deficiency in the capture system before the next scheduled inspection (40 CFR 63.7300(c)(1)).

EPA and Petitioners (collectively, the “Parties”) will jointly notify the Court that following the notice and comment period of this notice, the Parties anticipate that certain revisions to the Rule, if incorporated by EPA, will resolve COETF's challenge in this litigation. The Parties will jointly request that the Court's September 17, 2003 order remain in place and that the COETF's petition be held in abeyance pending implementation of, and subject to, the terms of this Settlement Agreement. Within 90 days after review of public comments received in response to this Notice, EPA will sign and submit for publication in the Federal Register a notice of proposed rulemaking to amend the Rule as set forth in Attachment A to this Agreement. Within 120 days after the close of the comment period on the proposal, EPA shall sign and submit for publication in the Federal Register a notice setting forth the Administrator's final decision on the issues covered by the proposal.

For a period of thirty (30) days following the date of publication of this notice, the Agency will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, based on any comment which may be submitted, that consent to the settlement agreement should be withdrawn, the terms of the agreement will be affirmed.

II. Additional Information About Commenting on the Proposed Settlement

A. How Can I Get A Copy Of the Settlement?

EPA has established an official public docket for this action under Docket ID No. OGC-2004-0004 which contains a copy of the settlement agreement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: May 24, 2004.
Lisa K. Friedman,
Associate General Counsel, Air and Radiation Law Office, Office of General Counsel.

[FR Doc. 04-12555 Filed 6-2-04; 8:45 am]

BILLING CODE 6560-50-P